SMALL BUSINESS ADMINISTRATION

[Declaration of Disaster #3535]

Commonwealth of Pennsylvania

Crawford County and the contiguous counties of Erie, Mercer, Venango and Warren in the Commonwealth of Pennsylvania; and Ashtabula and Trumbull Counties in the State of Ohio constitute a disaster area as a result of severe storms and flooding that occurred between July 21 and July 28, 2003. The storms caused serious damage to a number of homes and businesses throughout the county. Applications for loans for physical damage as a result of the disaster may be filed until the close of business on October 14, 2003, and for economic injury until the close of business on May 13, 2004, at the address listed below or other locally announced locations:

U.S. Small Business Administration, Disaster Area 1 Office, 360 Rainbow Blvd., South 3rd Floor, Niagara Falls, NY 14303.

The interest rates are:

| Percent
For Physical Damage:
Homeowners With Credit Available Elsewhere | 5.625
Homeowners Without Credit Available Elsewhere | 2.812
Businesses With Credit Available Elsewhere | 5.906
Businesses and Non-Profit Organizations Without Credit Available Elsewhere | 2.953
Others (Including Non-Profit Organizations) With Credit Available Elsewhere | 5.500
For Economic Injury:
Businesses and Small Agricultural Cooperatives Without Credit Available Elsewhere | 2.953

The number assigned to this disaster for physical damage is 353511 for Pennsylvania; and 353611 for Ohio. The number assigned to this disaster for economic injury is 9W7000 for Pennsylvania; and 9W7100 for Ohio.

(Catalog of Federal Domestic Assistance Program Nos. 59002 and 59008.)
Dated: August 13, 2003.
Hector V. Barreto,
Administrator.

[FR Doc. 03-21798 Filed 8-25-03; 8:45 am]

BILLING CODE 8025-01-P